INTERNATIONAL TRADE COMMISSION

[Investigation No. 337-TA-1085]

Certain Glucosylated Steviol Glycosides, and Products Containing Same; Notice of Commission Determination Not To Review an Initial Determination Granting a Joint Motion to Terminate the Investigation Based on Settlement; Termination of the Investigation

AGENCY: U.S. International Trade Commission.

ACTION: Notice.

SUMMARY: Notice is hereby given that the U.S. International Trade Commission has determined not to review an initial determination (Order No. 7) granting a joint motion to terminate the investigation based on settlement.

FOR FURTHER INFORMATION CONTACT: Lucy Grace D. Noyola, Office of the General Counsel, U.S. International Trade Commission, 500 E Street SW, Washington, DC 20436, telephone 202-205-3438. Copies of non-confidential documents filed in connection with this investigation are or will be available for inspection during official business hours (8:45 a.m. to 5:15 p.m.) in the Office of the Secretary, U.S. International Trade Commission, 500 E Street SW, Washington, DC 20436, telephone 202-205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal on 202-205-1810.

SUPPLEMENTARY INFORMATION: The Commission instituted the investigation on November 27, 2017, based on a complaint filed by PureCircle USA Inc. of Oak Brook, Illinois and PureCircle Sdn Bhd of Kuala Lumpur, Malaysia (collectively, “PureCircle”). 82 FR 56049 (Nov. 27, 2017). The complaint alleged violations of section 337 of the Tariff Act of 1930, as amended, 19 U.S.C. 1337, in the importation into the United States, the sale for importation, and the sale within the United States after importation of certain glucosylated steviol glycosides, and products containing same by reason of infringement of U.S. Patent No. 9,420,815. The named respondents included Sweet Green Fields USA LLC and Sweet Green Fields Co., Ltd., both of Bellingham, Washington, and Ningbo Green-Health Pharma-ceutical Co., Ltd. of Zhejiang, China (collectively, “SGF”). The Office of Unfair Import Investigations was not named as a party.

On March 1, 2018, PureCircle and SGF filed a joint motion to terminate the investigation based on a settlement agreement.

On March 14, 2018, the presiding administrative law judge (“ALJ”) issued an initial determination (“ID”) (Order No. 7), granting the motion. The ALJ found that the motion complies with the Commission's Rules of Practice and Procedure and that there was no evidence that termination is contrary to the public interest. No petitions for review of the ID were filed.

The Commission has determined not to review the subject ID.

The authority for the Commission's determination is contained in section 337 of the Tariff Act of 1930, as amended (19 U.S.C. 1337), and in part 210 of the Commission's Rules of Practice and Procedure (19 CFR part 210).

By order of the Commission.
Issued: April 5, 2018.
William Bishop,
Supervisory Hearings and Information Officer.

[FR Doc. 2018-07314 Filed 4-9-18; 8:45 am]

BILLING CODE 7020-02-P